DEPARTMENT OF TRANSPORTATION

Office of the Secretary

Applications of Avjet Corporation for Certificate Authority

AGENCY: Department of Transportation.

ACTION: Notice of Order to Show Cause (Order 2009-1-7); Dockets DOT-OST-2008-0224 and DOT-OST-2008-0231.

SUMMARY: The Department of Transportation is directing all interested persons to show cause why it should not issue orders finding Avjet Corporation, fit, willing, and able, and awarding it certificates of public convenience and necessity to engage in interstate and foreign charter air transportation of persons, property and mail.

DATES: Persons wishing to file objections should do so no later than January 28, 2009.

ADDRESSES: Objections and answers to objections should be filed in Dockets DOT-OST-2008-0224 and DOT-OST-2008-0231 and addressed to U.S. Department of Transportation, Docket Operations (M-30), 1200 New Jersey Avenue, SE., Washington, DC 20590, and should be served upon the parties listed in Attachment A to the order.

FOR FURTHER INFORMATION CONTACT: Ms. Vanessa R. Balgobin, Air Carrier Fitness Division (X-56), U.S. Department of Transportation, 1200 New Jersey Avenue, SE., Washington, DC 20590, (202) 366-9721.

Robert S. Goldner,
Special Counsel for Aviation and International Affairs.

[FR Doc. E9-1378 Filed 1-22-09; 8:45 am]

BILLING CODE 4910-9X-P